CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a pre-clearance consultation program to provide the general public and federal agencies with an opportunity to comment on proposed and/or continuing collections of information in accordance with the Paperwork Reduction Act of 1995 (PRA95) (44 U.S.C. section 3506(c)(2)(A)). This program helps to ensure that requested data can be provided in the desired format, reporting burden (time and financial resources) is minimized, collection instruments are clearly understood, and the impact of collection requirement on respondents can be properly assessed.

Currently, the Corporation is soliciting comments concerning its proposed use of a modified version of the OMB-approved Standard Form 269A, “Financial Status Report (Short Form).” This modified form is and would be exclusively used for financial reporting on grants awarded for the AmeriCorps program. This modified financial status report is currently in use by AmeriCorps grantees in the same format for which comments are being now being solicited. Grantees in the AmeriCorps program use the modified Standard Form 269A to report cumulative financial status and activity, typically over a semi-annual period specified by the grant award provisions.

The modified Standard Form 269A for AmeriCorps grantees differs from the regular Standard Form 269A in only one respect. On lines 10b and 10c where total “Recipient share of outlays” and “Federal share of outlays” are normally reported, respectively, the modified form requires two sub-total amounts to be recorded. Lines 10b and 10c are each split into (1) “Member Support” and (2) “Operational Expense” categories of outlays. It is necessary to collect sub-totals rather than totals to maintain adequate federal financial management integrity since member support and operational expense categories of grantee spending require different rates at which the grantee must provide matching funds (recipient share).

Copies of the information collection requests can be obtained by contacting the office listed in the address section of this notice.

DATES: Written comments must be submitted to the individual and office listed in the ADDRESSES section by April 29, 2005.

ADDRESSES: You may submit comments, identified by the title of the information collection activity, by any of the following methods:

(1) By mail sent to: Corporation for National and Community Service, Attention: Ms. Margaret Rosenberry, Director, Office of Grants Management, Room 9805, 1201 New York Avenue, NW., Washington, DC 20525.

(2) By hand delivery or by courier to the Corporation's mailroom at Room 6010 at the mail address given in paragraph (1) above, between 9 a.m. and 4 p.m. Monday through Friday, except Federal holidays.

(3) By fax to: (202) 565-2850, Attention Ms. Margaret Rosenberry, Associate Director.

(4) Electronically through the Corporation's e-mail address system: prosenbe@cns.gov with the subject line of the message indicating, “Public Comment on AmeriCorps Modified SF-269A Form.”

FOR FURTHER INFORMATION CONTACT: Margaret Rosenberry, (202) 606-5000, ext. 124, or by e-mail at prosenbe@cns.gov.

SUPPLEMENTARY INFORMATION: The Corporation is particularly interested in comments that:

• Evaluate whether the proposed collection of information is necessary for the proper performance of the functions of the Corporation, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

AmeriCorps program regulations set the matching funds (recipient share) requirements for participant benefits (also known as member support) and other AmeriCorps program costs (also known as operational expense) at different matching rates. These rates are currently set at 15% and 33%, respectively, with the member support component requiring cash match only.

Current Action

The Corporation seeks to extend a currently approved collection using a modified Standard Form 269A. Other than re-labeling the form with a more descriptive title to differentiate its use from the unmodified Standard Form 269A, and re-labeling the types of outlays to also be more descriptive, the modified form is unchanged from existing use. The Corporation requires 100% electronic reporting. The current modified form is due to expire on March 31, 2005.

Type of Review: Renewal.

Agency: Corporation for National and Community Service.

Title: AmeriCorps Financial Status Report; Standard Form 269A (Modified)

OMB Number: 3045-0103.

Agency Number: SF 424-NSSC.

Affected Public: Current and prospective recipients of AmeriCorps program grants.

Total Respondents: 732.

Frequency: Semi-annually, with few exceptions.

Average Time Per Response: Estimated at 2.0 hours. Grantees using electronic financial reporting tools provided by the Corporation may reduce the average time per response by up to 75%.

Estimated Total Burden Hours: 2,928 hours.

Total Burden Cost (capital/startup): None.

Total Burden Cost (operating/maintenance): None.

Comments submitted in response to this notice will be summarized and/or included in the request for Office of Management and Budget approval of the information collection request; they will also become a matter of public record.

Dated: February 22, 2005.
Margaret Rosenberry,
Director, Office of Grants Management.

[FR Doc. 05-3826 Filed 2-25-05; 8:45 am]

BILLING CODE 6050-$$-P